SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before August 25, 2006.

ADDRESSES: Send all comments regarding whether these information collections are necessary for the proper performance of the function of the agency, whether the burden estimates are accurate, and if there are ways to minimize the estimated burden and enhance the quality of the collections, to Sandra Johnston, Program Analyst, Office of Financial Assistance, Small Business Administration, 409 3rd Street, SW., Suite 8300, Washington, DC 20416.

FOR FURTHER INFORMATION CONTACT: Sandra Johnston, Program Analyst, Office of Financial Assistance, 202-205-7528 sandra.johnston@sba.gov, Curtis B. Rich, Management Analyst, 202-205-7030 curtis.rich@sba.gov.

SUPPLEMENTARY INFORMATION: Title: “Statement of Personal History.”

Description of Respondents: Small Business Lending Companies.

Form No. 1081.

Annual Responses: 200.

Annual Burden: 100.

Title: “U.S. Small Business Administration Application for Section 504 Loan.”

Description of Respondents: Loan Applicants.

Form No. 1244.

Annual Responses: 10,000.

Annual Burden: 20,800.

Jacqueline White,
Chief, Administrative Information Branch.

[FR Doc. E6-9975 Filed 6-23-06; 8:45 am]

BILLING CODE 8025-01-P